DEPARTMENT OF THE TREASURY

Office of the Comptroller of the Currency

Agency Information Collection Activities; Information Collection Revision; Comment Request; Bank Secrecy Act/Money Laundering Risk Assessment

AGENCY: Office of the Comptroller of the Currency (OCC), Treasury.

ACTION: Notice and request for comment.

SUMMARY: The OCC, as part of its continuing effort to reduce paperwork and respondent burden, invites comment on a continuing information collection, as required by the Paperwork Reduction Act of 1995 (PRA). In accordance with the requirements of the PRA, the OCC may not conduct or sponsor, and the respondent is not required to respond to, an information collection unless it displays a currently valid Office of Management and Budget (OMB) control number. The OCC is soliciting comment concerning a revision to its information collection titled, “Bank Secrecy Act/Money Laundering Risk Assessment,” also known as the Money Laundering Risk (MLR) System.

DATES: Comments must be submitted by August 25, 2025.

ADDRESSES: Commenters are encouraged to submit comments by email, if possible. You may submit comments by any of the following methods:

• Email: prainfo@occ.treas.gov.

• Mail: Chief Counsel's Office, Attention: Comment Processing, Office of the Comptroller of the Currency, Attention: 1557-0231, 400 7th Street SW, Suite 3E-218, Washington, DC 20219.

• Hand Delivery/Courier: 400 7th Street SW, Suite 3E-218, Washington, DC 20219.

• Fax: (571) 293-4835.

Instructions: You must include “OCC” as the agency name and “1557-0231” in your comment. In general, the OCC will publish comments on www.reginfo.gov without change, including any business or personal information provided, such as name and address information, email addresses, or phone numbers. Comments received, including attachments and other supporting materials, are part of the public record and subject to public disclosure. Do not include any information in your comment or supporting materials that you consider confidential or inappropriate for public disclosure.

Following the close of this notice's 60-day comment period, the OCC will publish a second notice with a 30-day comment period. You may review comments and other related materials that pertain to this information collection beginning on the date of publication of the second notice for this collection by the method set forth in the next bullet.

• Viewing Comments Electronically: Go to www.reginfo.gov. Hover over the “Information Collection Review” tab and click on “Information Collection Review” from the drop down menu. From the “Currently under Review” drop-down menu, select “Department of Treasury” and then click “submit.” This information collection can be located by searching OMB control number “1557-0231” or “Bank Secrecy Act/Money Laundering Risk Assessment.” Upon finding the appropriate information collection, click on the related “ICR Reference Number.” On the next screen, select “View Supporting Statement and Other Documents” and then click on the link to any comment listed at the bottom of the screen.

• For assistance in navigating www.reginfo.gov, please contact the Regulatory Information Service Center at (202) 482-7340.

FOR FURTHER INFORMATION CONTACT: Shaquita Merritt, OCC Clearance Officer, (202) 649-5490, Chief Counsel's Office, Office of the Comptroller of the Currency, 400 7th Street SW, Washington, DC 20219. If you are deaf, hard of hearing, or have a speech disability, please dial 7-1-1 to access telecommunications relay services.

SUPPLEMENTARY INFORMATION: Under the PRA (44 U.S.C. 3501 et seq.), Federal agencies must obtain approval from the OMB for each collection of information that they conduct or sponsor. “Collection of information” is defined in 44 U.S.C. 3502(3) and 5 CFR 1320.3(c) to include agency requests or requirements that members of the public submit reports, keep records, or provide information to a third party. Section 3506(c)(2)(A) of title 44 generally requires Federal agencies to provide a 60-day notice in the Federal Register concerning each proposed collection of information, including each proposed extension of an existing collection of information, before submitting the collection to OMB for approval. To comply with this requirement, the OCC is publishing notice of the revision of this collection.

Title: Bank Secrecy Act/Money Laundering Risk Assessment.

OMB Control No: 1557-0231.

Type of Review: Regular.

Affected Public: Business or other for-profit.

Description: The MLR System enhances the ability of examiners and bank management to identify and evaluate Bank Secrecy Act/Money Laundering and Office of Foreign Asset Control (OFAC) sanctions risks associated with banks' products, services, customers, and locations. As new products and services are introduced, existing products and services change, and banks expand through mergers and acquisitions, banks' evaluation of money laundering and terrorist financing risks should evolve as well. Consequently, the MLR risk assessment is an important tool for the OCC's Bank Secrecy Act/Anti-Money Laundering and OFAC supervision activities because it allows the agency to better identify those institutions, and areas within institutions, that pose heightened risk and allocate examination resources accordingly. This risk assessment is critical for protecting U.S. financial institutions of all sizes from potential abuse from money laundering and terrorist financing. An appropriate risk assessment allows applicable control to be effectively implemented for the lines of business, products, or entities that would elevate Bank Secrecy Act/Money Laundering and OFAC compliance risks.

The OCC will collect MLR information for community banks and trust banks supervised by the OCC. The OCC's annual Risk Summary Form (RSF) is fully automated making data entry quick and efficient and providing an electronic record for all parties. For 2025, the RSF will include three significant changes to the products, services, and customers (PSCs) collected:

1. The addition of one new PSC: bank-fintech partnerships.

2. The deletion of one existing PSC: payable through accounts.

3. The consolidation of fourteen existing PSCs into the following seven: Payable Upon Proper Identification (PUPID) wire transfers (domestic and international), foreign/international remote deposit capture, prepaid card program managers and providers, reloadable prepaid cards and card programs, non-reloadable prepaid cards and card programs, prepaid card programs—bank sponsored, and prepaid cardholders.

The net reduction of seven PSCs decreases the number of data collection points from 71 to 68 as shown in the table below (* PSC changes are denoted in bold):

Number | Existing PSCs | Number | New PSCs
1 | Cash Transactions | 1 | Convenience Stores.
2 | Marijuana Related Businesses | 2 | Liquor Stores.
3 | ATM Operators | 3 | Independent ATM Owners/Operators.
4 | Crypto-Assets Custody | 4 | Domestic Charitable Organizations.
5 | Stablecoin Issuance | 5 | Jewelry, Gem & Precious Metal Dealers.
6 | Stablecoin Payments | 6 | Casinos.
7 | Convenience Stores | 7 | Car Dealers.
8 | Liquor Stores | 8 | Domestic Private Bankings.
9 | Domestic Charitable Organizations | 9 | Domestic Commercial Letters of Credits.
10 | Jewelry, Gem and Precious Metals Dealers | 10 | Stand-by Letters of Credits.
11 | Casinos | 11 | Marijuana Related Businesses.
12 | Car Dealers | 12 | Customers/Accounts opened through the Internet, Mail, Wire or Phone (non-branch).
13 | Domestic Private Banking | 13 | Domestic Deposit Brokers.
14 | Domestic Commercial Letters of Credit | 14 | Travel Agencies.
15 | Stand-by Letters of Credit | 15 | Broker Dealers.
16 | Customers/Accounts opened through the Internet, Mail, Wire or Phone (non-branch) | 16 | Telemarketers.
17 | Domestic Deposit Brokers | 17 | Remotely Created Check Customers.
18 | Travel Agencies | 18 | Domestic Remote Deposit Capture Customers.
19 | Broker Dealers | 19 | Third Party Senders.
20 | Telemarketers | 20 | Cash Transactions.
21 | Remotely Created Check Customers | 21 | Issuance of Traveler's Checks, Official Bank Checks & Money Orders.
22 | Domestic Remote Deposit Capture Customers | 22 | Domestic Wire Transfers.
23 | Third Party Senders | 23 | PUPID Wire Transfers (Domestic and International).
24 | Issuance of Traveler's Checks, Official Bank Checks & Money Orders | 24 | ACHs.
25 | Domestic Wire Transfers | 25 | Remotely Created Checks.
26 | Domestic PUPID Wire Transfers | 26 | Domestic Remote Deposit Captures.
27 | ACH | 27 | Non-Resident Alien Accounts.
28 | Remotely Created Checks | 28 | Politically Exposed Persons.
29 | Domestic Remote Deposit Capture | 29 | Foreign Off-Shore Corporations.
30 | Non-Resident Alien Accounts | 30 | Foreign Deposit Brokers.
31 | Politically Exposed Persons | 31 | Foreign Charitable Organizations.
32 | Foreign Off-Shore Corporations | 32 | Import/Exports.
33 | Foreign Deposit Brokers | 33 | Foreign/International Remote Deposit Capture.
34 | Foreign Charitable Organizations | 34 | Foreign Correspondent Accounts.
35 | Import/Export | 35 | Pouch Services.
36 | Foreign Remote Deposit Capture Customers | 36 | Foreign Bank Affiliate (e.g., Parallel Banks).
37 | Foreign Correspondent Accounts | 37 | International Departments.
38 | Payable Through Accounts | 38 | International Private Bankings.
39 | Pouch Services | 39 | Embassy & Consulate Bankings.
40 | Foreign Bank Affiliate | 40 | International Commercial Letters of Credits.
41 | International Department | 41 | International Bank Drafts.
42 | International Private Banking | 42 | International Wire Transfers.
43 | Embassy & Consulate Banking | 43 | Remittance Products.
44 | International Commercial Letters of Credit | 44 | Cross-Border ACHs.
45 | International Bank Drafts | 45 | Domestic Casas de Cambio/Currency Exchanges.
46 | International Wire Transfers | 46 | Foreign Casas de Cambio/Currency Exchanges.
47 | International PUPID Wire Transfers | 47 | Money Transmitters.
48 | Remittance Products | 48 | Check Cashers.
49 | Cross-Border ACH | 49 | Issuers or Sellers of Traveler's Checks or Money Orders.
50 | International Remote Deposit Capture | 50 | Prepaid Card Providers and Managers.
51 | Domestic Casas de Cambio/Currency Exchange | 51 | Sellers of Prepaid Access.
52 | Foreign Casas de Cambio/Currency Exchange | 52 | Bank-Fintech Partnerships.
53 | Money Transmitters | 53 | Reloadable Prepaid Cards and Card Programs.
54 | Check Cashers | 54 | Non-Reloadable Prepaid Cards and Card Programs.
55 | Issuers or Sellers of Traveler Checks or Money Orders | 55 | Prepaid Card Programs—Bank Sponsored (Reloadable and Non-Reloadable).
56 | Providers of Prepaid Access | 56 | Prepaid Cardholders (Reloadable and Non-Reloadable).
57 | Sellers of Prepaid Access | 57 | Domestic Charitable Trusts & Foundations.
58 | Prepaid Cards | 58 | Foreign Charitable Trusts & Foundations.
59 | Prepaid Card Programs—Third Party Sponsored | 59 | Custodial Accounts.
60 | Prepaid Card Programs—Bank Sponsored | 60 | Investment Advisory Accounts.
61 | Prepaid Cardholders | 61 | Revocable Trusts.
62 | Prepaid Card Program Managers | 62 | Foreign Grantor or Beneficiaries.
63 | Domestic Charitable Trusts & Foundations | 63 | Loans to Closely Held Corporations.
64 | Foreign Charitable Trusts & Foundations | 64 | Brokerage Department/Operations.
65 | Custodial Accounts | 65 | Investment Advisory/Managements.
66 | Investment Advisory Accounts | 66 | Crypto-Assets Custodys.
67 | Revocable Trusts | 67 | Stablecoin Issuances.
68 | Foreign Grantor or Beneficiaries | 68 | Stablecoin Payments.
69 | Loans to Closely Held Corporations
70 | Brokerage Department/Operations
71 | Investment Advisory/Management

The OCC estimates the burden of this collection of information as follows:

Estimated Burden

Community bank population:

Estimated Number of Respondents: 609.

Estimated Number of Responses: 609.

Frequency of Response: Annually.

Estimated Annual Burden: 3,350 hours.

Comments submitted in response to this notice will be summarized and included in the request for OMB approval. All comments will become a matter of public record. Comments are invited on:

(a) Whether the collection of information is necessary for the proper performance of the functions of the agency, including whether the information has practical utility;

(b) The accuracy of the agency's estimate of the burden of the collection of information;

(c) Ways to enhance the quality, utility, and clarity of the information to be collected;

(d) Ways to minimize the burden of the collection on respondents, including through the use of automated collection techniques or other forms of information technology; and

(e) Estimates of capital or start-up costs and costs of operation, maintenance, and purchase of services to provide information.

Patrick T. Tierney,
Assistant Director, Office of the Comptroller of the Currency.

[FR Doc. 2025-11545 Filed 6-23-25; 8:45 am]

BILLING CODE 4810-33-P